Title 3—

The President

Memorandum of February 17, 2005

Delegation of Reporting Authority

Memorandum for the Director of the National Science Foundation

By the authority vested in me as President by the Constitution and the laws of the United States, including section 301 of title 3, United States Code, I hereby delegate to you the functions and authority conferred upon the President by Public Law 98-373 (15 U.S.C. 4107(b) and 4108(a)), to provide the specified report and plan to the Congress.

You are authorized and directed to publish this memorandum in the Federal Register.

B

THE WHITE HOUSE,

Washington, February 17, 2005.

[FR Doc. 05-3980

Filed 2-25-05; 10:06 am]

Billing code 7555-01-P